DEPARTMENT OF TRANSPORTATION

Federal Railroad Administration

[Docket Number FRA-1999-6404]

Petition for Waiver of Compliance

In accordance with Part 211 of Title 49 of the Code of Federal Regulations (CFR), this provides the public notice that on September 6, 2017, The National Railroad Passenger Corporation (Amtrak) petitioned the Federal Railroad Administration (FRA) for an amendment to a waiver of compliance from certain provisions of the Federal railroad safety regulations contained at 49 CFR 238.111, Pre-revenue service acceptance testing plan. FRA assigned the petition docket number FRA-1999-6404.

Specifically, Amtrak and the Washington State Department of Transportation (WSDOT) are requesting permission to operate Talgo articulated trainsets on Sound Transit's Lakewood Subdivision near Tacoma, Washington.

In 2010, WSDOT was awarded nearly $800 million of American Recovery and Reinvestment Act (ARRA) High-Speed Intercity Passenger Rail funds to improve Amtrak Cascades service in the Pacific Northwest. Two of the projects funded by this ARRA grant program provided over $200 million to upgrade Sound Transit's Lakewood Subdivision. These upgrades have provided infrastructure to allow for the re-routing of Amtrak's long distance and Amtrak Cascades regional trains off a portion of BNSF Railway's (BNSF) Seattle Subdivision. The Lakewood Subdivision has substantially less freight traffic than the existing route along BNSF's Seattle Subdivision.

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested parties desire an opportunity for oral comment and a public hearing, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by January 8, 2018 will be considered by FRA before final action is taken. Comments received after that date will be considered if practicable.

Anyone can search the electronic form of any written communications and comments received into any of our dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacyNotice for the privacy notice of regulations.gov.

Issued in Washington, DC.
Robert C. Lauby,
Associate Administrator for Railroad Safety, Chief Safety Officer.

[FR Doc. 2017-25361 Filed 11-22-17; 8:45 am]

BILLING CODE 4910-06-P